FEDERAL COMMUNICATIONS COMMISSION

47 CFR Part 73

[DA 07-809; MB Docket No. 05-229; RM-10780]

Radio Broadcasting Services; Madisonville and Rosebud, TX

AGENCY: Federal Communications Commission.

ACTION: Final rule; denial of petition for reconsideration.

SUMMARY: This document denies a petition for reconsideration filed by Gerald Proctor (“Proctor”) directed to the Report and Order in this proceeding. In denying the petition for reconsideration, the Media Bureau affirms the dismissal of Proctor's untimely expression of interest because it would prejudice a conflicting application.

FOR FURTHER INFORMATION CONTACT: Helen McLean, Media Bureau, (202) 418-2738.

SUPPLEMENTARY INFORMATION: This is a synopsis of the Commission's Memorandum Opinion and Order, MB Docket No. 05-229, adopted February 21, 2007, and released February 23, 2007. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com.

This document is not subject to the Congressional Review Act. The Commission is, therefore, not required to submit a copy of this Memorandum Opinion and Order to the Government Accountability Office pursuant to the Congressional Review Act, see 5 U.S.C. 801(a)(1)(A) because the aforementioned petition for reconsideration was denied.

Federal Communications Commission.
John A. Karousos,
Assistant Chief, Audio Division, Media Bureau.

[FR Doc. E7-4548 Filed 3-13-07; 8:45 am]

BILLING CODE 6712-01-P